DEPARTMENT OF COMMERCE

Foreign-Trade Zones Board

[B-29-2023]

Foreign-Trade Zone (FTZ) 7, Notification of Proposed Production Activity; AbbVie Ltd.; (Pharmaceutical Products); Barceloneta, Puerto Rico

AbbVie Ltd., submitted a notification of proposed production activity to the FTZ Board (the Board) for its facility in Barceloneta, Puerto Rico within Subzone 7I. The notification conforming to the requirements of the Board's regulations (15 CFR 400.22) was received on April 10, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished product is RINVOQ® (upadacitinib) tablets (duty-free).

The proposed foreign-status material is upadacitinib active pharmaceutical ingredient (duty rate 6.5%).

Public comment is invited from interested parties. Submissions shall be addressed to the Board's Executive Secretary and sent to: ftz@trade.gov. The closing period for their receipt is May 30, 2023.

A copy of the notification will be available for public inspection in the “Online FTZ Information System” section of the Board's website.

For further information, contact Christopher Wedderburn at Chris.Wedderburn@trade.gov.

Dated: April 14, 2023.
Elizabeth Whiteman,
Acting Executive Secretary.

[FR Doc. 2023-08327 Filed 4-19-23; 8:45 am]

BILLING CODE 3510-DS-P